NATIONAL INDIAN GAMING COMMISSION

25 CFR Part 542

RIN 3141-AA24

Public Hearing To Receive Testimony on Proposed Minimum Internal Control Standards

AGENCY: National Indian Gaming Commission.

ACTION: Notice of public hearing.

SUMMARY: On Wednesday, December 26, 2001, the National Indian Gaming Commission published a Proposed Rule in the Federal Register updating its existing Minimum Internal Control Standards (MICS). This Proposed Rule is the product of a consultative process that began more than one year ago, including an initial comment period and the extensive participation of a ten-member Tribal Advisory Committee. Comments on the Proposed Rule are due on or before February 25, 2002.

In further keeping with the Commission's policy of consultation with tribal governments, we will host a public hearing on the proposed rule Tuesday, February 5, 2002. This hearing provides an excellent opportunity for individuals to provide comment about the regulation to both the Commission and members of the Tribal Advisory Committee.

DATES: The hearing will be held on Tuesday, February 5, 2002, 9 a.m. to 5 p.m., Arlington, VA.

ADDRESSES: Crystal City Courtyard by Marriott (Club Room), 2899 Jefferson Davis Highway, Arlington, VA 22202.

FOR FURTHER INFORMATION CONTACT: Denise Desiderio, 202-632-7003.

Dated: January 10, 2002.
Montie R. Deer,
Chairman.

[FR Doc. 02-930 Filed 1-14-02; 8:45 am]

BILLING CODE 7565-01-P